FEDERAL ELECTION COMMISSION

Sunshine Act; Meeting Notice

Previously Announced Date & Time: Thursday, June 13, 2002, meeting open to the public.

This meeting has been cancelled.

Person to Contact for Information: Mr. Ron Harris, Press Officer, Telephone: (202) 694-1220.

Mary W. Dove,
Secretary of the Commission.

[FR Doc. 02-14676 Filed 6-6-02; 2:44 pm]

BILLING CODE 6715-01-M